ENVIRONMENTAL PROTECTION AGENCY

[FRL-7589-1]

AAA Metal Refinishing & Chrome Superfund Site; Notice of Proposed Settlement

AGENCY: Environmental Protection Agency.

ACTION: Notice of Proposed Settlement.

SUMMARY: Under section 122(h)(1) of the Comprehensive Environmental Response, Compensation and Liability Act (CERCLA), the Environmental Protection Agency (EPA) has entered into an Agreement for Recovery of Past Cost (Agreement) at the AAA Metal Refinishing & Chrome Superfund Site (Site) located in Tampa, Hillsborough County, Florida, with Donald Garrity, and the Donald J. Garrity Revocable Trust. EPA will consider public comments on the Agreement until December 22, 2003. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887.

Written comments may be submitted to Ann Mayweather at the above address within 30 days of the date of publication.

Dated: October 31, 2003.
Rosalind Brown,
Chief, Superfund Information & Management Branch, Waste Management Division.

[FR Doc. 03-29002 Filed 11-19-03; 8:45 am]

BILLING CODE 6560-50-P